DEPARTMENT OF COMMERCE

National Oceanic and Atmospheric Administration

[I.D. 102706C]

Marine Mammals; File No. 775-1600; Correction

AGENCY: National Marine Fisheries Service (NMFS), National Oceanic and Atmospheric Administration (NOAA), Commerce.

ACTION: Notice; receipt of application for amendment; correction.

SUMMARY: On November 2, 2006, a notice was published in the Federal Register announcing that NMFS had received an application for an amendment to Permit No. 775-1600 from the Northeast Fisheries Science Center in Woods Hole, MA. That document inadvertently omitted the DATES section informing the public of when comments would be accepted on the action. This document corrects that oversight. All other information is unchanged.

FOR FURTHER INFORMATION CONTACT: Carrie Hubard or Amy Hapeman, (301)713-2289.

SUPPLEMENTARY INFORMATION: The notice of a request for an amendment to scientific research Permit No. 775-1600 (FR 64512; November 2, 2006) contained an error in that it omitted a comment period for the requested action. Accordingly, the DATES section is added to read as follows:

DATES: Written, telefaxed, or e-mail comments must be received on or before December 4, 2006.

All other information contained in the document is unchanged.

Dated: November 13, 2006.
P. Michael Payne,
Chief, Permits, Conservation and Education Division, Office of Protected Resources, National Marine Fisheries Service.

[FR Doc. E6-19483 Filed 11-16-06; 8:45 am]

BILLING CODE 3510-22-S